DEPARTMENT OF STATE

[Public Notice: 10433]

In the Matter of the Amendment of the Designation of Al-Nusrah Front (and Other Aliases) as a Specially Designated Global Terrorist

Based upon a review of the administrative record assembled in this matter, and in consultation with the Attorney General and the Secretary of the Treasury, I have concluded that there is a sufficient factual basis to find that Al-Nusrah Front (and other aliases) is also known as Hay'at Tahrir al-Sham, also known as Hay'et Tahrir al-Sham, also known as Hayat Tahrir al-Sham, also known as HTS, also known as Assembly for the Liberation of Syria, also known as Assembly for Liberation of the Levant, also known as Liberation of al-Sham Commission, also known as Liberation of the Levant Organisation, also known as Tahrir al-Sham, also known as Tahrir al-Sham Hay'at.

Therefore, pursuant to Section 1(b) of Executive Order 13224, I hereby amend the designation of Al-Nusrah Front as a Specially Designated Global Terrorist to include the following new aliases: Hay'at Tahrir al-Sham, also known as Hay'et Tahrir al-Sham, also known as Hayat Tahrir al-Sham, also known as HTS, also known as Assembly for the Liberation of Syria, also known as Assembly for the Liberation of the Levant, also known as Liberation of al-Sham Commission, also known as Liberation of the Levant Organisation, also known as Tahrir al-Sham, also known as Tahrir al-Sham Hay'at.

This determination shall be published in the Federal Register.

Dated: May 17, 2018.
Michael Pompeo,
Secretary of State.

[FR Doc. 2018-11794 Filed 5-31-18; 8:45 am]

BILLING CODE 4710-AD-P